DEPARTMENT OF COMMERCE

International Trade Administration

[C-580-837]

Certain Cut-to-Length Carbon-Quality Steel Plate From the Republic of Korea: Final Results of Countervailing Duty Administrative Review and Rescission of Countervailing Duty Administrative Review, in Part

AGENCY: Enforcement and Compliance, International Trade Administration, Department of Commerce.

SUMMARY: The Department of Commerce (the Department) has completed the administrative review of the countervailing duty (CVD) order on cut-to-length carbon-quality steel plate (CTL Plate) from the Republic of Korea (Korea) for the January 1, 2015, through December 31, 2015, period of review (POR). We have determined that Hyundai Steel Co. (Hyundai Steel) received countervailable subsidies that are above de minimis and that Dongkuk Steel Mill Co., Ltd. (DSM) did not. We are applying to the five firms not selected for individual examination in this administrative review the rate calculated for Hyundai Steel. We are also rescinding the review for eight companies.

DATES: August 18, 2017.

FOR FURTHER INFORMATION CONTACT: John Conniff at 202-482-1009 (for Hyundai Steel), or Jolanta Lawska at 202-482-8362 (for DSM), AD/CVD Operations, Office III, Enforcement and Compliance, International Trade Administration, U.S. Department of Commerce, 1401 Constitution Avenue NW., Washington, DC 20230.

Background

On February 10, 2000, the Department published the CVD Order on CTL Plate from Korea.¹ The Department published the Preliminary Results of this administrative review in the Federal Register on March 15, 2017.² For a discussion of the events following the Preliminary Results, see the Issues and Decision Memorandum.³

¹ See Notice of Amended Final Determination: Certain Cut-to-Length Carbon-Quality Steel Plate from India and the Republic of Korea; and Notice of Countervailing Duty Orders: Certain Cut-to-Length Carbon-Quality Steel Plate from France, India, Indonesia, Italy, and the Republic of Korea, 65 FR 6587 (February 10, 2000) (Order).

² See Certain Cut-to-Length Carbon-Quality Steel Plate from the Republic of Korea: Preliminary Results of Countervailing Duty Administrative Review, and Preliminary Intent to Rescind in Part: Calendar Year 2015, 82 FR 13792 (March 15, 2017) (Preliminary Results), and accompanying Preliminary Decision Memorandum.

³ See Memorandum, “Issues and Decision Memorandum for Final Results of 2015 Countervailing Duty Administrative Review of Cut-to-Length Carbon-Quality Steel Plate from the Republic of Korea” (Issues and Decision Memorandum), dated concurrently with this notice and incorporated herein by reference.

Scope of the Order

The products covered by the order are certain hot-rolled carbon-quality steel: (1) Universal mill plates (i.e., flat-rolled products rolled on four faces or in a closed box pass, of a width exceeding 150 mm but not exceeding 1250 mm, and of a nominal or actual thickness of not less than 4 mm, which are cut-to-length (not in coils) and without patterns in relief), of iron or non-alloy-quality steel; and (2) flat-rolled products, hot-rolled, of a nominal or actual thickness of 4.75 mm or more and of a width which exceeds 150 mm and measures at least twice the thickness, and which are cut-to-length (not in coils).

The merchandise subject to the order is currently classifiable in the Harmonized Tariff Schedule of the United States (HTSUS) under subheadings: 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, 7212.50.0000, 7225.40.3050, 7225.40.7000, 7225.50.6000, 7225.99.0090, 7226.91.5000, 7226.91.7000, 7226.91.8000, 7226.99.0000.

Although the HTSUS subheadings are provided for convenience and customs purposes, the written description of the merchandise covered by the order is dispositive.⁴

⁴ For a complete description of the scope of the order, see Issues and Decision Memorandum.

Analysis of Comments Received

All issues raised in interested parties' case briefs are addressed in the Issues and Decision Memorandum. A list of the issues raised by interested parties and to which we responded in the Issues and Decision Memorandum is provided in the Appendix to this notice. The Issues and Decision Memorandum is a public document and is on file electronically via Enforcement and Compliance's Antidumping and Countervailing Duty Centralized Electronic Service System (ACCESS). ACCESS is available to registered users at https://access.trade.gov and is available to all parties in the Central Records Unit, room B8024 of the main Commerce building. In addition, a complete version of the Issues and Decision Memorandum can be accessed directly on the internet at http://enforcement.trade.gov/frn/index.html. The signed and electronic versions of the Issues and Decision Memorandum are identical in content.

Methodology

The Department conducted this review in accordance with section 751(a)(1)(A) of the Tariff Act of 1930, as amended (the Act). For the subsidy programs found countervailable during the POR, we determine that there is a subsidy, i.e., a government-provided financial contribution that confers a benefit to the recipient, and that the subsidy is specific.⁵ For a complete description of the methodology underlying the Department's conclusions, see the Issues and Decision Memorandum.

⁵ See sections 771(5)(B) and (D) of the Act regarding financial contribution; section 771(5)(E) of the Act regarding benefit; and section 771(5A) of the Act regarding specificity.

Rescission of the 2015 Administrative Review, in Part

As noted in the Preliminary Results, the Department received timely no shipment responses from GS Global Corp. (GS Global), Hyundai Glovis, Hyundai Mipo Dockyard Co., Ltd (Hyundai Mipo), Hyosung Corporation (Hyosung), Daewoo International Corp., Samsung C&T Corporation (Samsung C&T Corp.), SK Networks Co., Ltd. (SK Networks), and Samsung Heavy Industries. The Department inquired with U.S. Customs and Border Protection (CBP) whether GS Global, Hyundai Glovis, Hyundai Mipo, Hyosung, Daewoo International Corp., Samsung C&T Corp., SK Networks, and Samsung Heavy Industries had shipped merchandise to the United States during the POR, and CBP provided no evidence to contradict the no shipments claims made by these companies. Accordingly, the Department is rescinding the administrative review of with respect to these eight companies pursuant to 19 CFR 351.213(d)(3).

Rate for Non-Selected Companies Under Review

There are five companies for which a review was requested and not rescinded, but were not selected as mandatory respondents: Bookuk Steel, BDP International, Samsung C&T Engineering and Construction Group (Samsung C&T Engineering), Sung Jin Steel Co., Ltd., and Samsung C&T Trading and Investment Group (Samsung C&T Trading). Consistent with the preliminary results, we are applying to the non-selected companies the rate calculated for Hyundai Steel, which is above de minimis.

Final Results of Review

In accordance with 19 CFR 351.221(b)(5), we determine the following net countervailable subsidy rates for the period January 1, 2015, through December 31, 2015:

Company | Subsidy rate Ad Valorem (%)
Dongkuk Steel Mill Co., Ltd | * 0.13
Hyundai Steel Co | 0.54
Bookuk Steel | 0.54
BDP International | 0.54
Samsung C&T Engineering and Construction Group | 0.54
Sung Jin Steel Co., Ltd | 0.54
Samsung C&T Trading and Investment Group | 0.54
* de minimis.

Disclosure

We intend to disclose to parties in this proceeding the calculations performed for these final results within five days of the date of the publication of this notice in the Federal Register.⁶

⁶ See 19 CFR 351.224(b).

Assessment Rates

In accordance with 19 CFR 351.212(b)(2), the Department intends to issue assessment instructions to CBP 15 days after the date of publication of these final results. Because we have calculated a de minimis countervailable subsidy rate for DSM in the final results of this review, we will instruct CBP to liquidate the appropriate entries without regard to countervailing duties in accordance with 19 CFR 351.212. For Hyundai Steel and the above listed companies, we will instruct CBP to assess countervailing duties on the value of the POR entries at the rate shown above.

Cash Deposit Instructions

In accordance with section 751(a)(2)(C) of the Act, we intend to instruct CBP to collect cash deposits of estimated countervailing duties in the amounts shown above, for the companies listed above, with the exception of DSM, on shipments of subject merchandise entered, or withdrawn from warehouse, for consumption on or after the date of publication of the final results of this review. Because the countervailable subsidy rate for DSM is de minimis, the Department will instruct CBP to collect cash deposits at a rate of zero for DSM for all shipments of the subject merchandise that are entered, or withdrawn from warehouse, for consumption on or after the date of publication of the final results of this administrative review. For all non-reviewed firms, we will instruct CBP to collect cash deposits of estimated countervailing duties at the most recent company-specific or all-others rate applicable to the company. These cash deposit requirements, when imposed, shall remain in effect until further notice.

Return or Destruction of Proprietary Information

This notice also serves as a reminder to parties subject to administrative protective order (APO) of their responsibility concerning the disposition of proprietary information disclosed under APO in accordance with 19 CFR 351.305(a)(3). Timely written notification of the return/destruction of APO materials or conversion to judicial protective order is hereby requested. Failure to comply with the regulations and the terms of an APO is a sanctionable violation.

We are issuing and publishing these final results in accordance with sections 751(a)(1) and 777(i)(1) of the Act, 19 CFR 351.213(d)(4) and 19 CFR 351.221(b)(5).

Dated: August 11, 2017.
Gary Taverman,
Deputy Assistant Secretary for Antidumping and Countervailing Duty Operations performing the non-exclusive functions and duties of the Assistant Secretary for Enforcement and Compliance.

Appendix

List of Topics Discussed in the Issues and Decision Memorandum

I. Summary

II. List of Interested Party Comments

III. Period of Review

IV. Scope of the Order

V. Rescission of the 2015 Administrative Review, in Part

VI. Non-Selected Rate

VII. Subsidy Methodologies

VIII. Analysis of Programs

IX. Analysis of Comments

Comment 1: Whether the Department Should Initiate an Investigation into the GOK's Provision of Electricity for Less than Adequate Remuneration (LTAR)

Comment 2: Whether the Department Erred in not Initiating an Investigation into the GOK's Purchases of Electricity for More than Adequate Remuneration (MTAR)

Comment 3: Whether the Department's Finding that the Demand Response Resources (DRR) Program Constitutes a Countervailable Subsidy is in Accordance with the Requirements of the Statute or the World Trade Organization (WTO) Agreement on Subsidies and Countervailing Measures

Comment 4: Whether the Department Erred in Finding that Various Restriction of Special Taxation Act (RSTA) Tax Programs are De Facto Specific

Comment 5: Whether the Department Should Find that Samsung C&T Engineering and Samsung C&T Trading Had No Reviewable Entries During the POR

X. Recommendation

[FR Doc. 2017-17494 Filed 8-17-17; 8:45 am]

BILLING CODE 3510-DS-P